DEPARTMENT OF COMMERCE

National Oceanic and Atmospheric Administration

Agency Information Collection Activities; Submission to the Office of Management and Budget (OMB) for Review and Approval; Comment Request; Alaska American Fisheries Act Reports

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on October 3, 2023 during a 60-day comment period. This notice allows for an additional 30 days for public comments.

Agency: National Oceanic and Atmospheric Administration (NOAA), Commerce.

Title: Alaska American Fisheries Act Reports.

OMB Control Number: 0648-0401.

Form Number(s): None.

Type of Request: Regular submission (extension of a current information collection, revision).

Number of Respondents: 11.

Average Hours per Response: AFA Cooperative Contract 8 hours; Bering Sea Pollock Fishery Incentive Plan Agreement 50 hours; Bering Sea Pollock Fishery IPA Annual Report 80 hours; IPA administrative appeals 4 hours.

Total Annual Burden Hours: 358 hours.

Needs and Uses: The National Marine Fisheries Services (NMFS), Alaska Region, requests revision and extension of a currently approved information collection for American Fisheries Act reporting requirements.

NMFS Alaska Region manages the groundfish fisheries of the Bering Sea and Aleutian Islands Management Area in the Exclusive Economic Zone off Alaska. The North Pacific Fishery Management Council (Council) prepared the Fishery Management Plan for Groundfish of the Bering Sea and Aleutian Islands Management Area (FMP) under the authority of the Magnuson-Stevens Fishery Conservation and Management Act, 16 U.S.C. 1801 et seq., and other applicable laws. Regulations implementing the FMP are at 50 CFR part 679.

The Bering Sea pollock fishery is managed under the American Fisheries Act (AFA). The purpose of the AFA was to tighten U.S. ownership standards for U.S. fishing vessels under the Anti-reflagging Act and to provide the Bering Sea pollock fleet the opportunity to conduct its fishery in a more rational manner while protecting non-AFA participants in the other fisheries. The AFA established sector allocations in the Bering Sea pollock fishery, determined eligible vessels and processors, allowed the formation of cooperatives, set limits on the participation of AFA vessels in other fisheries, and imposed special catch weighing and monitoring requirements on AFA vessels.

This information collection contains the annual and periodic reporting requirements for AFA cooperatives. These requirements include reports about on-going fishing operations of the cooperatives and reports focused on efforts to minimize salmon bycatch in the Bering Sea pollock fishery. These reporting requirements are at 50 CFR 679.21 and 679.61.

This information is used to manage the Bering Sea pollock fishery, to evaluate the salmon bycatch management measures, and to provide the public with information about how the program operates and information about bycatch reduction under this program. This information collection provides the Council and NMFS with information about the organization and fishing operations of the AFA cooperatives, allocations to the AFA cooperatives, and the effectiveness of the Chinook salmon and chum salmon bycatch management measures. This information is necessary to ensure long-term conservation and abundance of salmon and pollock, maintain a healthy marine ecosystem, and provide maximum benefit to fishermen and communities that depend on salmon and pollock.

The following changes have been made to this information collection. The AFA Annual Cooperative Report is removed from this collection because it was added to OMB Control Number 0648-0678 (Alaska Council Cooperative Annual Reports) in 2019 and was intended to be removed from OMB Control Number 0648-0401. The Incentive Plan Agreement (IPA) and the IPA Annual Report are renamed the Bering Sea Pollock Fishery Incentive Plan Agreement (IPA) and the Bering Sea Pollock Fishery IPA Annual Report, respectively to clarify the fishery that they are associated with.

Affected Public: Business or other for-profit organizations.

Frequency: Annually as needed.

Respondent's Obligation: Required to Obtain or Retain Benefits; Mandatory.

Legal Authority: Magnuson-Stevens Fishery Conservation and Management Act; American Fisheries Act. 16 U.S.C. 1801 et seq., and other applicable laws. Regulations implementing the FMP are at 50 CFR part 679.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0401.

Sheleen Dumas,
Department PRA Clearance Officer, Office of the Under Secretary for Economic Affairs, Commerce Department.

[FR Doc. 2024-05132 Filed 3-8-24; 8:45 am]

BILLING CODE 3510-22-P